DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Baxter County, Arkansas, and Incorporated Areas | Docket No.: FEMA-B-1064
North Fork River | At the confluence with the White River | +398 | City of Norfork, City of Salesville, Unincorporated Areas of Baxter County.
| Just downstream of State Highway 177 | +398
Tributary 1 to Dodd Creek | At the confluence with Dodd Creek | +785 | City of Mountain Home.
| Approximately 505 feet upstream of Burnett Drive | +834
* National Geodetic Vertical Datum.
+ North American Vertical Datum.
# Depth in feet above ground.
‸ Mean Sea Level, rounded to the nearest 0.1 meter.
ADDRESSES
City of Mountain Home
Maps are available for inspection at 720 South Hickory Street, Mountain Home, AR 72653.
City of Norfork
Maps are available for inspection at 49 City Hall Circle, Norfork, AR 72653.
City of Salesville
Maps are available for inspection at 46 Salesville Circle, Salesville, AR 72653.
Unincorporated Areas of Baxter County
Maps are available for inspection at the Baxter County Courthouse, 1 East 7th Street, Mountain Home, AR 72653.
Clare County, Michigan (All Jurisdictions) | Docket No.: FEMA-B-1069
Budd Lake | Entire shoreline | +1114 | City of Harrison, Township of Hayes.
Doc and Tom Lake | Entire shoreline | +1067 | Township of Freeman.
Eight Point Lake | Entire shoreline | +1053 | Township of Garfield.
Grass Lake | Entire shoreline | +1081 | Township of Freeman.
Lake Shamrock | Entire shoreline | +826 | City of Clare, Township of Grant.
Surrey Lake | Entire shoreline | +958 | Township of Surrey.
* National Geodetic Vertical Datum.
+ North American Vertical Datum.
# Depth in feet above ground.
‸ Mean Sea Level, rounded to the nearest 0.1 meter.
ADDRESSES
City of Clare
Maps are available for inspection at 202 West 5th Street, Clare, MI 48617.
City of Harrison
Maps are available for inspection at 229 East Beech Street, Harrison, MI 48625.
Township of Freeman
Maps are available for inspection at 7280 West Mannsiding Road, Lake, MI 48632.
Township of Garfield
Maps are available for inspection at 9348 Terry Street, Lake, MI 48632.
Township of Grant
Maps are available for inspection at 3022 Surrey Road, Clare, MI 48617.
Township of Hayes
Maps are available for inspection at 2051 East Townline Lake Road, Harrison, MI 48625.
Township of Surrey
Maps are available for inspection at 110 East Michigan Street, Farwell, MI 48622.
San Miguel County, New Mexico, and Incorporated Areas | Docket No.: FEMA-B-1069
Arroyo Hermanos | At the confluence with Gallinas Creek | +6448 | City of Las Vegas.
| Just downstream of Lopez Street | +6493
Arroyo Pajarito | At the confluence with Gallinas Creek | +6415 | City of Las Vegas.
| Just downstream of Salazar Street | +6476
Arroyo Pecos | Approximately 0.8 mile downstream of East Frontage Road | +6381 | City of Las Vegas, Unincorporated Areas of San Miguel County.
| Just upstream of Las Vegas Boulevard | +6458
Gallinas Creek | Just upstream of I-25 | +6381 | City of Las Vegas, Unincorporated Areas of San Miguel County.
| Approximately 0.4 mile downstream of El Camino Road | +6515
* National Geodetic Vertical Datum.
+ North American Vertical Datum.
# Depth in feet above ground.
‸ Mean Sea Level, rounded to the nearest 0.1 meter.
ADDRESSES
City of Las Vegas
Maps are available for inspection at the San Miguel County Office of Planning and Zoning, 500 West National Avenue, 3rd Floor, Las Vegas, NM 87701.
Unincorporated Areas of San Miguel County
Maps are available for inspection at the San Miguel County Assessor's Office, 500 West National Avenue, Suite 105, Las Vegas, NM 87701.
Cuyahoga County, Ohio, and Incorporated Areas | Docket No.: FEMA-B-1053
Anthony Lake Tributary | Approximately 425 feet downstream of Anthony Lane | +897 | City of Parma, City of Parma Heights.
| Approximately 140 feet upstream of Anthony Lane | +902
Big Creek | Approximately 300 feet downstream of Ridge Road | +679 | City of Brooklyn.
| Approximately 1,100 feet upstream of Ridge Road | +695
Chagrin River | Approximately 0.5 mile upstream of Rogers Road | +683 | Village of Mayfield.
Chagrin River | Approximately 40 feet upstream of Woodland Road | +786 | Village of Moreland Hills.
| Approximately 1,200 feet upstream of Woodland Road | +789
| Approximately 850 feet downstream of Miles Road | +851
| Approximately 1,200 feet upstream of Miles Road | +860
Countrymans Creek | Upstream of I-71 | +721 | Village of Lindale.
| Downstream of Bellaire Road | +727
Cuyahoga River | Approximately 40 feet upstream of Brecksville Road | +605 | City of Garfield Heights.
| Approximately 700 feet upstream of Brecksville Road | +607
Doan Brook | Approximately 160 feet upstream of Martin Luther King Jr. Drive | +777 | City of Cleveland Heights.
| Approximately 130 feet upstream of West Woodland Road | +915
Dover Ditch | Approximately 150 feet downstream of Harding Drive | +724 | City of North Olmsted.
Gifford-Avon Ditch | Approximately 100 feet upstream of Naigle Road | +629 | City of Westlake.
| Approximately 0.5 mile upstream of Naigle Road | +629
Lake Erie | Entire shoreline within the Cities of Bay Village, Cleveland, and Lakewood | +576 | City of Bay Village, City of Cleveland, City of Lakewood.
Mill Creek | Approximately 30 feet downstream of McCracken Road | +841 | City of Maple Heights.
| Approximately 390 feet upstream of McCracken Road | +841
Plum Creek | Mouth at West Branch Rocky River | +710 | City of Olmsted Falls, Unincorporated Areas of Cuyahoga County.
| Approximately 70 feet downstream of Sprague Road | +780
Rocky River | Approximately 1,100 feet upstream of Detroit Road | +580 | City of Cleveland, City of Rocky River.
| Approximately 3,500 feet upstream of River Road | +606
Tinkers Creek Tributary 1 | Approximately 0.3 mile upstream of Walton Road | +930 | City of Bedford.
West Branch Rocky River | Approximately 1.1 mile downstream of Water Street | +682 | City of Olmsted Falls, Unincorporated Areas of Cuyahoga County.
| At Sprague Road | +753
* National Geodetic Vertical Datum.
+ North American Vertical Datum.
# Depth in feet above ground.
‸ Mean Sea Level, rounded to the nearest 0.1 meter.
ADDRESSES
City of Bay Village
Maps are available for inspection at 350 Dover Center Road, Bay Village, OH 44140.
City of Bedford
Maps are available for inspection at 165 Center Road, Bedford, OH 44146.
City of Brooklyn
Maps are available for inspection at 7619 Memphis Avenue, Brooklyn, OH 44144.
City of Cleveland
Maps are available for inspection at 601 Lakeside Avenue, Cleveland, OH 44144.
City of Cleveland Heights
Maps are available for inspection at 40 Severance Circle, Cleveland Heights, OH 44118.
City of Garfield Heights
Maps are available for inspection at 5407 Turney Road, Garfield Heights, OH 44125.
City of Lakewood
Maps are available for inspection at 12650 Detroit Avenue, Lakewood, OH 44107.
City of Maple Heights
Maps are available for inspection at 5353 Lee Road, Maple Heights, OH 44137.
City of North Olmsted
Maps are available for inspection at 5200 Dover Center Road, North Olmsted, OH 44070.
City of Olmsted Falls
Maps are available for inspection at 26100 Bagley Road, Olmsted Falls, OH 44138.
City of Parma
Maps are available for inspection at 6611 Ridge Road, Parma, OH 44129.
City of Parma Heights
Maps are available for inspection at 6281 Pearl Road, Parma Heights, OH 44130.
City of Rocky River
Maps are available for inspection at 21012 Hillard Boulevard, Rocky River, OH 44116.
City of Westlake
Maps are available for inspection at 27700 Hillard Boulevard, Westlake, OH 44145.
Unincorporated Areas of Cuyahoga County
Maps are available for inspection at 323 Lakeside Avenue, Suite 400, Cleveland, OH 44113.
Village of Lindale
Maps are available for inspection at 4016 West 119th Street, Lindale, OH 44135.
Village of Mayfield
Maps are available for inspection at 6622 Wilson Mills Road, Mayfield, OH 44143.
Village of Moreland Hills
Maps are available for inspection at 4350 S.O.M. Center Road, Moreland Hills, OH 44022.
Kent County, Rhode Island (All Jurisdictions) | Docket No.: FEMA-B-1078
Maskerchugg River | Approximately 750 feet downstream of State Route 1A (Boston Post Road) | +15 | City of Warwick, Town of East Greenwich.
| Approximately 45 feet upstream of Division Street | +75
North Branch Pawtuxet River (Upper Reach) | Approximately 530 feet downstream of State Route 116 (located in Providence County) | +183 | Town of Coventry.
| Approximately 240 feet downstream of State Route 116 (located in Providence County) | +185
* National Geodetic Vertical Datum.
+ North American Vertical Datum.
# Depth in feet above ground.
‸ Mean Sea Level, rounded to the nearest 0.1 meter.
ADDRESSES
City of Warwick
Maps are available for inspection at the City Hall-Annex Building, Planning Department, 3275 Post Road, 2nd Floor, Warwick, RI 02886.
Town of Coventry
Maps are available for inspection at the Public Works Department, 1688 Flat River Road, Coventry, RI 02816.
Town of East Greenwich
Maps are available for inspection at the Department of Public Works, 111 Pierce Street, East Greenwich, RI 02818.
Cannon County, Tennessee, and Incorporated Areas | Docket No.: FEMA-B-1065
East Fork Stones River | Approximately 80 feet downstream of the confluence with Lehman Branch | +690 | Unincorporated Areas of Cannon County.
| Approximately 40 feet upstream of Doolittle Road | +706
* National Geodetic Vertical Datum.
+ North American Vertical Datum.
# Depth in feet above ground.
‸ Mean Sea Level, rounded to the nearest 0.1 meter.
ADDRESSES
Unincorporated Areas of Cannon County
Maps are available for inspection at 1 Courthouse Square, Woodbury, TN 37190.
Gonzales County, Texas, and Incorporated Areas | Docket No.: FEMA-B-1069
Baldridge Creek | Approximately 1 mile downstream of State Highway 97 | +350 | Unincorporated Areas of Gonzales County.
| Approximately 1,400 feet upstream of U.S. Route 90 West | +368
Guadalupe River | At the confluence with Tinsley Creek | +278 | City of Gonzales, Unincorporated Areas of Gonzales County.
| Approximately 1.4 mile downstream of County Road 466 | +286
Tinsley Creek | Approximately 530 feet upstream of Weimer Street | +294 | City of Gonzales.
| Just upstream of Sarah DeWitt Drive | +303
* National Geodetic Vertical Datum.
+ North American Vertical Datum.
# Depth in feet above ground.
‸ Mean Sea Level, rounded to the nearest 0.1 meter.
ADDRESSES
City of Gonzales
Maps are available for inspection at P.O. Box 547, Gonzales, TX 78629.
Unincorporated Areas of Gonzales County
Maps are available for inspection at 414 Saint Joseph Street, Gonzales, TX 78629.

(Catalog of Federal Domestic Assistance No. 97.022, “Flood Insurance.”)

Dated: October 29, 2010.
Sandra K. Knight,
Deputy Federal Insurance and Mitigation Administrator, Mitigation, Department of Homeland Security, Federal Emergency Management Agency.

[FR Doc. 2010-28228 Filed 11-8-10; 8:45 am]

BILLING CODE 9110-12-P